ENVIRONMENTAL PROTECTION AGENCY

[ER-FRL-9038-2]

Environmental Impact Statements; Notice of Availability

Responsible Agency: Office of Federal Activities, General Information (202) 564-7156 or http://www2.epa.gov/nepa.

Weekly receipt of Environmental Impact Statements

Filed 03/05/2018 Through 03/09/2018

Pursuant to 40 CFR 1506.9

Notice

Section 309(a) of the Clean Air Act requires that EPA make public its comments on EISs issued by other Federal agencies. EPA's comment letters on EISs are available at: https://cdxnodengn.epa.gov/cdx-nepa-public/action/eis/search.

EIS No. 20180036, Draft, FAA, GA, Draft EIS Spaceport Camden, Comment Period Ends: 05/16/2018, Contact: Stacey M Zee 202-267-9305

EIS No. 20180037, Final, NPS, ND, Knife River Indian Villages National Historic Site Archeological Resources Management Plan, Review Period Ends: 04/16/2018, Contact: Brenda Todd 701-745-3300

EIS No. 20180038, Final, NPS, MI, FEIS to Address the Presence of Wolves at Isle Royale National Park, Review Period Ends: 04/16/2018, Contact: Kelly Daigle 303-987-6897

EIS No. 20180039, Final, FHWA, AK, Sterling Highway Milepost 45-60, Review Period Ends: 04/16/2018, Contact: John Lohrey 907-586-7418

EIS No. 20180040, Final, USFS, CA, Craggy Vegetation Management, Review Period Ends: 04/23/2018, Contact: Danika Carlson 530-468-1225

EIS No. 20180041, Draft, USFS, MT, Castle Mountains Restoration Project, Comment Period Ends: 04/30/2018, Contact: John Casselli 406-791-7723

EIS No. 20180042, Draft Supplement, BLM, CA, West Route Network Project Draft Supplemental Environmental Impact Statement WMRNP DSEIS, Comment Period Ends: 06/14/2018, Contact: Matthew Toedtli 404-426-1854

EIS No. 20130018, Final, BIA, WA, ADOPTION—Spokane Tribe of Indians West Plains Casino and Mixed-Use Development Project Approval of Gaming Development and Management Spokane County WA, Contact: Esther Dittler 202-632-7003

The National Indian Gaming Commission (NIGC) has adopted the Bureau of Indian Affairs' (BIA) Spokane Tribe of Indians West Plains Casino and Mixed-Use Development Project Approval of Gaming Development and Management Spokane County WA EIS. BIA filed its Final EIS with EPA on January 25, 2013; it was published in the Federal Register on February 1, 2013. The comment period was extended from March 4, 2013 to May 1, 2013. The NIGC was a cooperating agency on the project and recirculation of the document is not necessary under Section 1506.3(c) of the Council of Environmental Quality National Environmental Policy Act (NEPA) Regulations.

Dated: March 13, 2018.
Kelly Knight,
Director, NEPA Compliance Division, Office of Federal Activities.

[FR Doc. 2018-05393 Filed 3-15-18; 8:45 am]

BILLING CODE 6560-50-P